Title 3—

The President

Executive Order 13602 of March 15, 2012

Establishing a White House Council on Strong Cities, Strong Communities

By the authority vested in me as President by the Constitution and the laws of the United States of America, and in order to forge a partnership with local communities to provide them with comprehensive technical assistance to use and compete for Federal resources more effectively and efficiently, which will enable them to develop and implement economic strategies to become more competitive, sustainable, and inclusive, it is hereby ordered as follows:

Section 1. Policy. Cities, towns, and regions across our Nation continue to face difficult economic challenges. Enhancing current Federal assistance is helping to lift communities out of distress. To allow the Federal Government to better partner with these local communities to build local capacity to address economic issues, and to support comprehensive planning and regional collaboration, my Administration established the Strong Cities, Strong Communities (SC2) pilot initiative. By partnering with cities and regions to augment their vision for stability and economic growth, the SC2 was designed to help communities strengthen their capacity to create jobs and more competitive business climates, and implement locally driven community and regional planning approaches that lead to sustained economic growth, as well as ensure that Federal assistance is more efficiently provided and used.

This order improves the way the Federal Government engages with and supports local communities by better aligning resources and coordinating efforts across executive departments and agencies (agencies) so that communities across the country have access to comprehensive, localized technical assistance and planning resources to develop and implement their economic vision and strategies.

Sec. 2. White House Council on Strong Cities, Strong Communities. There is established a White House Council on Strong Cities, Strong Communities (Council) within the Department of Housing and Urban Development, to be chaired by the Secretary of Housing and Urban Development and the Assistant to the President for Domestic Policy (Co-Chairs).

(a) Membership. In addition to the Co-Chairs, the Council shall consist of the following members:

(i) the Secretary of the Treasury;

(ii) the Secretary of Defense;

(iii) the Attorney General;

(iv) the Secretary of the Interior;

(v) the Secretary of Agriculture;

(vi) the Secretary of Commerce;

(vii) the Secretary of Labor;

(viii) the Secretary of Health and Human Services;

(ix) the Secretary of Transportation;

(x) the Secretary of Energy;

(xi) the Secretary of Education;

(xii) the Secretary of Veterans Affairs;

(xiii) the Secretary of Homeland Security;

(xiv) the Chair of the Council of Economic Advisers;

(xv) the Administrator of the Environmental Protection Agency;

(xvi) the Director of the Office of Management and Budget;

(xvii) the Administrator of General Services;

(xviii) the Administrator of the Small Business Administration;

(xix) the Chief Executive Officer of the Corporation for National and Community Service;

(xx) the Chairperson of the National Endowment for the Arts;

(xxi) the Senior Advisor and Assistant to the President for Intergovernmental Affairs and Public Engagement;

(xxii) the Assistant to the President and Cabinet Secretary;

(xxiii) the Assistant to the President for Economic Policy;

(xxiv) the Chair of the Council on Environmental Quality;

(xxv) the Director of the Office of Science and Technology Policy; and

(xxvi) the heads of such other agencies and offices as the President may, from time to time, designate.

A member of the Council may designate, to perform the Council functions of the member, a senior-level official who is a part of the member's agency or office, and who is a full-time officer or employee of the Federal Government.

(b) Administration. The Co-Chairs shall convene regular meetings of the Council, determine its agenda, and direct its work. The Secretary of Housing and Urban Development shall appoint an Executive Director of the Council to coordinate the Council's activities. At the direction of the Co-Chairs, the Council may establish subgroups consisting exclusively of Council members or their designees, as appropriate. Agencies may detail staff to the Council to support its coordination and implementation efforts.

Sec. 3. Mission and Function of the Council. The Council shall, to the extent permitted by law, work across agencies and offices to:

(a) coordinate the development and implementation of the various components of the SC2, as determined by the Co-Chairs;

(b) coordinate agency efforts to ensure communities have access to comprehensive, localized technical assistance and planning resources to develop and execute their economic vision and strategies (including, where appropriate, efforts of existing committees or taskforces related to providing technical assistance to local governments and improving their capacity to address economic issues);

(c) ensure that members of the Council incorporate SC2 implementation efforts into their agency annual performance plans and those efforts' outcomes into their annual performance results;

(d) provide recommendations to the President, through the Co-Chairs on:

(i) policies for building local expertise in strengthening local economies;

(ii) changes to Federal policies and programs to address issues of special importance to cities and local governments that pertain to local capacity and economic growth;

(iii) implementing best practices from the SC2 initiative Government-wide to better support cities and local governments; and

(iv) opportunities to increase the flexible utilization of existing Federal program resources across agencies to enable more performance and outcome-based funding;

(e) encourage the development of technical assistance, planning, and financing tools and implementation strategies that can be coordinated or aligned across agencies to assist communities in building local capacity to address economic issues, engaging in comprehensive planning, and advancing regional collaboration; and

(f) facilitate the exchange of ideas and strategies to help communities address economic challenges and create sustained economic opportunity.

Sec. 4. Outreach. Consistent with the objectives set forth in this order, the Council, in accordance with applicable law, shall conduct outreach to representatives of nonprofit organizations, businesses, labor organizations, State and local government agencies, school districts, elected officials, faith and other community-based organizations, philanthropies, other institutions of local importance, and other interested persons with relevant expertise in the expansion and improvement of efforts to build local capacity to address economic issues in cities and communities. The Council will convene an annual meeting of interested parties—including mayors and city employees—to share key findings and progress, offer best practices, and promote strategies that have worked in communities participating in the initiative.

Sec. 5. Reports. Within 1 year of the date of this order, and annually thereafter, the Executive Director shall provide a report to the Co-Chairs on the work of the Council and its achievements during the year, including demonstrable changes in the capacity of local communities to implement their economic development goals and efforts to achieve more efficient and effective use of Federal resources.

Sec. 6. General Provisions. (a) The heads of agencies shall assist and provide information to the Council, consistent with applicable law, as may be necessary to implement this order. Each agency shall bear its own expense for participating in the Council.

(b) Nothing in this order shall be construed to impair or otherwise affect:

(i) the authority granted by law to an executive department, agency, or the head thereof; or

(ii) the functions of the Director of the Office of Management and Budget relating to budgetary, administrative, or legislative proposals.

(c) This order shall be implemented consistent with applicable law and subject to the availability of appropriations.

(d) This order is not intended to, and does not, create any right or benefit, substantive or procedural, enforceable at law or in equity by any party against the United States, its departments, agencies, or entities, its officers, employees, or agents, or any other person.

THE WHITE HOUSE,

March 15, 2012.

[FR Doc. 2012-6797

Filed 3-19-12; 8:45 am]

Billing code 3295-F2-P